DEPARTMENT OF COMMERCE

National Oceanic and Atmospheric Administration

Availability of Final Evaluation Findings of State Coastal Programs and National Estuarine Research Reserves

AGENCY: Office for Coastal Management (OCM), National Ocean Service (NOS), National Oceanic and Atmospheric Administration (NOAA), Department of Commerce (DOC).

ACTION: Notice of availability of evaluation findings.

SUMMARY: Notice is hereby given of the availability of final evaluation findings for three state coastal programs, Illinois, Indiana, and Massachusetts, and two national estuarine research reserves, Apalachicola and Delaware, under Sections 312 and 315 of the Coastal Zone Management Act (CZMA).

ADDRESSES: Copies of these final evaluation findings may be downloaded at https://coast.noaa.gov/czm/evaluations/evaluation_findings/index.html or by submitting a written request to Michael Migliori at Michael.Migliori@noaa.gov.

FOR FURTHER INFORMATION CONTACT: Michael Migliori, Lead Evaluator, NOAA Office for Coastal Management, by phone at (443) 332-8936 or email at Michael.Migliori@noaa.gov.

SUPPLEMENTARY INFORMATION: The NOAA Office for Coastal Management has completed the coastal zone management program evaluations for the States of Illinois, Indiana, and Massachusetts. The states were found to be implementing and enforcing their federally approved coastal zone management programs, addressing the national coastal management objectives identified in CZMA Section 303(2), and adhering to the programmatic terms of their financial assistance awards. In addition, the NOAA Office for Coastal Management has completed the national estuarine research reserve evaluations for Apalachicola and Delaware. The reserves were found to be adhering to programmatic requirements of the National Estuarine Research Reserve System. NOAA published in the Federal Register notices for public meetings and opportunities to submit public comments on the evaluation of these state coastal zone management programs (CZMPs) and national estuarine research reserves (NERRs). See 85 FR 56220 (Sep. 11, 2020) (Illinois CZMP); 86 FR 10034 (Feb. 18, 2021) (Indiana CZMP); 86 FR 14080 (March 12, 2021) (Massachusetts CZMP); 86 FR 33662 (Jun. 25, 2021) (Apalachicola NERR); and 85 FR 56219 (Sept. 11, 2020) (Delaware NERR). Public comments received are addressed in the final evaluation findings.

Authority: 16 U.S.C. 1458 and 1461(f); 15 CFR 921.40 and 923.133(b)(7).

Keelin Kuipers,
Deputy Director, Office for Coastal Management, National Ocean Service, National Oceanic and Atmospheric Administration.

[FR Doc. 2022-09096 Filed 4-27-22; 8:45 am]

BILLING CODE 3510-JE-P